DEPARTMENT OF HEALTH AND HUMAN SERVICES

Substance Abuse and Mental Health Services Administration

Agency Information Collection Activities: Submission for OMB Review; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: GPRA Client Outcomes for the Substance Abuse and Mental Health Services Administration (SAMHSA)—(OMB No. 0930-0208)—Revision

The mission of SAMHSA is to improve the effectiveness and efficiency of substance abuse and mental health treatment and prevention services across the United States. All of SAMHSA's activities are designed to ultimately reduce the gap in the availability of substance abuse and mental health services and to improve their effectiveness and efficiency.

Data currently are collected from all SAMHSA knowledge application and targeted capacity expansion grants and contracts where client outcomes are to be assessed at intake (or initial contact), 6 and 12 months post admission or post-intervention. SAMHSA-funded projects are required to submit these data as a contingency of their award. The analysis of the data will also help determine whether the goal of reducing health and social costs of drug use to the public is being achieved.

The primary purpose of this data collection activity is to meet the reporting requirements of the Government Performance and Results Act (GPRA) by allowing SAMHSA to quantify the effects and accomplishments of SAMHSA programs. In addition, the data will be useful in addressing goals and objectives outlined in ONDCP's Performance Measures of Effectiveness. The revision of this data collection affects only the Center for Substance Abuse Treatment (CSAT). The proposed revision will modify the CSAT services instrument to include new questions on family characteristics, specific services and social connectedness to align with the SAMHSA Administrator's seven domains for national outcomes measures. In addition, the data collection time points will change to intake, discharge, and 6 months post admission. It is estimated that an average of five minutes will be added to the response burden for each client.

The following is the estimated annual response burden for this collection.

Center/number of annual clients-participants | Responses per client/participant | Hours per response | Total hours | Proportion of added burden | Total hour burden
CMHS:
3,750 | 3 | .33 | 3,713 | 0.70 | 2,599
CSAP:
12,150 | 3 | .33 | 12,029 | 0.72 | 8,661
CSAT:
26,031* | 3 | .42 | 32,799 | 0.47 | 15,416
3,500** | ***4 | .42 | 5,880 | 0.47 | 2,765
Total:
45,431 |  |  |  |  | 29,440
Note:This is the maximum additional burden if all clients/participants complete three sets of items. CSAP and CSAT adolescent clients/participants do not usually receive all four data collections. Added burden proportion is an adjustment reflecting the extent to which programs typically already collect the data items. The formula for calculating the proportion of added burden is: Total number of items in the standard instrument minus the number of core GPRA items currently included divided by the total number of items in the standard instrument.
*Adults.
**Adolescents.
***Four data collections for adolescents.

Send comments to Summer King, SAMHSA Reports Clearance Officer, Room 7-1045, 1 Choke Cherry Road, Rockville, MD 20850. Written comments should be received by December 13, 2004.

Dated: October 1, 2004.
Anna Marsh,
Executive Officer, SAMHSA.

[FR Doc. 04-23026 Filed 10-13-04; 8:45 am]

BILLING CODE 4162-20-P